DEPARTMENT OF ENERGY

Federal Energy Regulatory Commission

[Project No. P-15331-001]

Marlow Hydro LLC; Notice of Application Tendered for Filing With the Commission and Soliciting Additional Study Requests and Establishing Procedural Schedule for Licensing and a Deadline for Submission of Final Amendments

Take notice that the following hydroelectric application has been filed with the Commission and is available for public inspection.

a. Type of Application: Original Minor License.

b. Project No.: 15331-001.

c. Date filed: July 31, 2024.

d. Applicant: Marlow Hydro LLC (Marlow Hydro).

e. Name of Project: Nash Mill Dam Hydroelectric Project.

f. Location: On the Ashuelot River, in town of Marlow, Cheshire County, New Hampshire. The project does not occupy federal land.

g. Filed Pursuant to: Federal Power Act 16 U.S.C. 791(a)—825(r).

h. Applicant Contact: Anthony B. Rosario, Marlow Hydro, 139 Henniker St, Hillsborough, NH, 03244; Phone at (603) 494-1854; or email at t-iem@tds.net.

i. FERC Contact: Prabha Madduri at 202-502-8017, or prabharanjani.madduri@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 30, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Nash Mill Dam Project (P-15331-001).

m. The application is not ready for environmental analysis at this time.

n. The Nash Mill Project consists of the following existing facilities: (1) a 57-foot-long, 9-foot-high, concrete gravity dam topped with 3-foot-high collapsible wooden flashboards with a crest elevation of 1,133.41 feet North American Vertical Datum 1988 (NAVD 88) at the top of the flashboards; (2) a 2-acre impoundment; (3) an intake structure on the north side of the dam equipped with a 10-foot-high by 10-foot-wide trash rack with 1-inch clear bar spacing; (4) a 4-feet-diameter, 1,525-feet-long round steel penstock that trifurcates into two 24-inch-diameter penstocks and one 4-foot-diameter pipe; (5) a 31-foot-long by 18-foot-wide powerhouse that contains two vertical-shaft, fixed propeller turbine-generator units and one horizontal-shaft turbine-generator unit for a total installed capacity of 225 kilowatts; (6) a 600-foot-long tailrace; (7) a 1,800-foot long bypassed reach (8) a 0.48 kilovolt (kV), 75 kilo-volt-amperes transformer; (9) a 1,830-foot-long, 12.5-kV transmission line; and (10) appurtenant facilities.

Marlow Hydro currently operates the project in a run-of-river mode. The current license requires Marlow Hydro to release a continuous minimum flow of 23 cubic feet per second (cfs) from the project as measured downstream of the powerhouse, with a continuous flow of 5.2 cfs over the dam. From 2016 to 2020, average annual generation of the Nash Mill Project was 552 megawatt-hours.

Marlow Hydro proposes to continue operating the project in a run-of-river mode and would increase the bypass flow from 5.2 cfs to 14.5 cfs.

o. A copy of the application can be viewed on the Commission's website at http://www.ferc.gov using the “eLibrary” link. Enter the docket number excluding the last three digits in the docket number field to access the document (P-15331). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

p. Procedural schedule and final amendments: The application will be processed according to the following preliminary schedule. Revisions to the schedule will be made as appropriate.

Milestone | Target date
Issue Deficiency Letter (if necessary) | October 2024
Request for Additional Information | October 2024
Issue Notice of Acceptance | January 2025
Issue Scoping Document 1 for comments | February 2025
Request Additional Information (if necessary) | April 2025
Issue Scoping Document 2 (if necessary) | May 2025

Final amendments to the application must be filed with the Commission no later than 30 days from the issuance date of the notice of ready for environmental analysis.

Dated: August 14, 2024.
Debbie-Anne A. Reese,
Acting Secretary.

[FR Doc. 2024-18642 Filed 8-19-24; 8:45 am]

BILLING CODE 6717-01-P